DEPARTMENT OF THE INTERIOR

Bureau of Indian Affairs

Indian Gaming

AGENCY: Bureau of Indian Affairs, Interior.

ACTION: Notice of Approved Tribal—State Class III Gaming Compact.

SUMMARY: This notice publishes an approval of the Gaming Compact between the Standing Rock Sioux Tribe and the State of South Dakota (including 2001 and 2009 Amendments).

DATES: Effective Date: August 19, 2009.

FOR FURTHER INFORMATION CONTACT: Paula L. Hart, Acting Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2710, the Secretary of the Interior shall publish in the Federal Register notice of approved Tribal-State compacts for the purpose of engaging in Class III gaming activities on Indian lands. This Compact extends the provisions of the 1992 Compact with the term of the Compact being extended from 3 years to 10 years.

Dated: August 12, 2009.
Larry Echo Hawk,
Assistant Secretary—Indian Affairs.

[FR Doc. E9-19886 Filed 8-18-09; 8:45 am]

BILLING CODE 4310-4N-P